DEPARTMENT OF COMMERCE

National Oceanic and Atmospheric Administration

[RTID 0648-XE846]

Atlantic Highly Migratory Species; Meeting of the Atlantic Highly Migratory Species Advisory Panel

AGENCY: National Marine Fisheries Service (NMFS), National Oceanic and Atmospheric Administration (NOAA), Commerce.

ACTION: Notice of public webinar/conference call.

SUMMARY: NMFS will hold a 3-day Atlantic Highly Migratory Species (HMS) Advisory Panel (AP) meeting via webinar in May 2025. The intent of the meeting is to consider options for the conservation and management of Atlantic HMS. The meeting is open to the public.

DATES: The AP meeting and webinar will be held on Tuesday, May 6, from 9:30 a.m. to 5 p.m. ET; Wednesday, May 7, from 9:30 a.m. to 5 p.m. ET; and Thursday, May 8, from 9 a.m. to 12 p.m. ET.

ADDRESSES: The meeting will be accessible via WebEx conference call and webinar. Conference call and webinar access information are available at: https://www.fisheries.noaa.gov/event/may-2025-hms-advisory-panel-meeting.

Participants are strongly encouraged to log/dial in 15 minutes prior to the meeting. NMFS will show the presentations via webinar and allow public comment during identified times on the agenda.

FOR FURTHER INFORMATION CONTACT: Peter Cooper (peter.cooper@noaa.gov) or Anna Quintrell (anna.quintrell@noaa.gov) at 301-427-8503.

SUPPLEMENTARY INFORMATION: Atlantic HMS fisheries (tunas, swordfish, sharks, and billfish) are managed under the 2006 Consolidated Atlantic HMS Fishery Management Plan (FMP) and its amendments pursuant to the authority of the Magnuson-Stevens Fishery Conservation and Management Act (Magnuson-Stevens Act; 16 U.S.C. 1801 et seq.) and consistent with the Atlantic Tunas Convention Act (16 U.S.C. 971 et seq.). HMS implementing regulations are at 50 CFR part 635.

The Magnuson-Stevens Act requires the establishment of APs and requires NMFS to consult with and consider the comments and views of AP members during the preparation and implementation of FMPs or FMP amendments (16 U.S.C. 1854(g)(1)(A)-(B)). NMFS meets with the HMS AP approximately twice each year to consider potential alternatives for the conservation and management of Atlantic tunas, swordfish, billfish, and shark fisheries, consistent with the Magnuson-Stevens Act. Generally, AP meetings are held in-person, but because of current restrictions on travel this AP meeting will be conducted via webinar.

Some of the discussion topics are:

• HMS rulemaking updates;

• Outcomes of the 2024 International Commission for the Conservation of Atlantic Tunas Annual Meeting; and

• Atlantic bluefin tuna fishery update.

We anticipate inviting other NMFS offices and the U.S. Coast Guard to provide updates, if available, on their activities relevant to HMS fisheries. Additional information on the meeting and a copy of the draft agenda will be posted prior to the meeting (see ADDRESSES).

Requests for sign language interpretation or other auxiliary aids should be directed to Peter Cooper at 301-427-8503, at least 7 days prior to the meeting.

Dated: April 11, 2025.
Kelly Denit,
Director, Office of Sustainable Fisheries, National Marine Fisheries Service.

[FR Doc. 2025-06442 Filed 4-15-25; 8:45 am]

BILLING CODE 3510-22-P